DEPARTMENT OF THE INTERIOR

Bureau of Land Management

[LLCOS01000.L12200000.DP0000]

Notice of Intent To Amend the Resource Management Plan for the Tres Rios Field Office and Prepare an Associated Environmental Assessment, Colorado

AGENCY: Bureau of Land Management, Interior.

ACTION: Notice.

SUMMARY: In compliance with the National Environmental Policy Act (NEPA) of 1969, as amended, and the Federal Land Policy and Management Act (FLPMA) of 1976, as amended, the Bureau of Land Management (BLM) Tres Rios Field Office, Dolores, Colorado, intends to prepare a Resource Management Plan (RMP) Amendment with an associated Environmental Assessment (EA) for the Tres Rios Field Office to evaluate the management of 18 potential Areas of Critical Environmental Concern (ACEC) and by this notice is announcing the beginning of the scoping process to solicit public comments and identify issues.

DATES: This notice initiates the public scoping process for the RMP Amendment with an associated EA. Comments on issues may be submitted in writing until April 4, 2016. The BLM will announce the date(s) and location(s) of any scoping meetings at least 15 days in advance through local news media, newspapers and the BLM Web site at: www.blm.gov/co/st/en/BLM_Information/nepa/TRFO_NEPA.html. The BLM must receive all comments prior to the close of the 30-day scoping period or 15 days after the last public meeting, whichever is later, in order to include them in the analysis. We will provide additional opportunities for public participation as appropriate.

ADDRESSES: You may submit comments on issues and planning criteria related to the Tres Rios Field Office RMP ACEC Amendment EA by any of the following methods:

• Web site: www.blm.gov/co/st/en/BLM_Information/nepa/TRFO_NEPA.html.

• Email: BLM_CO_TRFO_ACEC@blm.gov.

• Fax: (970) 240-5367.

• Mail: BLM, 2465 S. Townsend Ave., Montrose, CO 81401.

Documents pertinent to this proposal may be examined at the Tres Rios Field Office, Dolores Public Lands Center, 29211 Highway 184, Dolores, CO 81323.

FOR FURTHER INFORMATION CONTACT: Gina Jones, District NEPA Coordinator; telephone (970) 240-5381; address 2465 S. Townsend Ave. Montrose, CO 81401; email BLM_CO_TRFO_ACEC@blm.gov. Contact Gina Jones to have your name added to our mailing list. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: This document provides notice that the BLM Tres Rios Field Office, Dolores, Colorado, intends to prepare an RMP Amendment with an associated EA for the Tres Rios Field Office, announces the beginning of the scoping process, and seeks public input on issues and planning criteria. The amendment planning area is located in Dolores, Montezuma, Montrose, San Juan and San Miguel counties in southwest Colorado and encompasses approximately 130,000 acres of Federal surface public land. The BLM is considering amending the Tres Rios RMP to address 18 areas found to have relevance and importance consistent with BLM Manual 1613—Areas of Critical Environmental Concern. The RMP Amendment and associated EA will evaluate these areas to determine if they should be designated as an ACEC, and if so, what management prescriptions are necessary to protect the relevant and important values of each area. There are suitable Wild and Scenic River segments and lands with wilderness characteristics units within the nominated ACEC areas. These resources will be considered throughout the analysis process. The purpose of the public scoping process is to determine relevant issues that will influence the scope of the environmental analysis, including alternatives, and guide the planning process. BLM personnel; Federal, State and local agencies; and other stakeholders identified preliminary issues for the plan amendment area. Preliminary issues include those resources within the analysis area that would meet the relevance and importance criteria as set forth in BLM Manual 1613 and require special management attention to address resource conflicts. See the plan amendment Web site at www.blm.gov/co/st/en/BLM_Information/nepa/TRFO_NEPA.html to view maps and additional information on the previously nominated areas being considered. The areas nominated include:

• Anasazi Culture (currently designated as an ACEC): Approximately 1,200 acres;

• Cement Creek: Approximately 450 acres;

• Cinnamon Pass: Approximately 560 acres;

• Coyote Wash: Approximately 650 acres;

• Disappointment Valley: Approximately 2,700 acres;

• Dolores River Canyon: Approximately 12,000 acres;

• Dry Creek Basin: Approximately 35,000 acres;

• Grassy Hills: Approximately 450 acres;

• Gypsum Valley (currently designated as ACEC): Approximately 13,200 acres (combined Big Gypsum Valley and Little Gypsum Valley);

• Lake Como: Approximately 100 acres;

• McIntyre Canyon: Approximately 3,000 acres;

• Mesa Verde Entrance: Approximately 1,300 acres;

• Muleshoe Bench: Approximately 700 acres;

• Northdale: Approximately 4,000 acres;

• Silvey's Pocket: Approximately 700 acres;

• Slick Rock: Approximately 3,600 acres;

• Snaggletooth: Approximately 24,000 acres; and

• Spring Creek Basin: Approximately 25,500 acres.

Preliminary planning criteria include:

1. The BLM will continue to manage the Tres Rios Field Office in accordance with FLPMA and other applicable laws and regulations. Section 202(c)(3) of FLPMA mandates the agency to give priority to the designation and protection of ACECs in the planning process;

2. The BLM will comply with NEPA, including preparing appropriate environmental analysis for the proposed action;

3. Planning decisions will strive for compatiblility with existing plans and policies of adjacent Federal, State, local and tribal agencies as long as the decisions are consistent with Federal law governing the administration of public land;

4. The planning area only includes areas that meet the relevance and importance criteria defined in BLM Manual 1613; and

5. The BLM will follow the procedures for ACEC planning in BLM Manual 1613.

You may submit comments on issues and planning criteria in writing to the BLM at any public scoping meeting, or you may submit them to the BLM using one of the methods listed in the ADDRESSES section above. Please submit comments by the close of the 30-day scoping period or within 15 days after the last public meeting, whichever is later.

The BLM will use and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. The BLM will give tribal concerns, including impacts on Indian trust assets and potential impacts to cultural resources, due consideration. The BLM invites Federal, State and local agencies, along with tribes and other stakeholders that may be interested in or affected by the proposed action the BLM is evaluating, to participate in the scoping process and, if eligible, may request or be requested by the BLM to participate in developing the environmental analysis as a cooperating agency.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the Plan Amendment;

2. Issues to be resolved through policy or administrative action; or

3. Issues beyond the scope of this Plan Amendment.

The BLM will provide an explanation in the Preliminary EA as to why an issue was placed in category two or three. The BLM also encourages the public to identify any management questions and concerns that should be addressed in the amendment process. The BLM will collaborative with interested parties to identify the management decisions best suited to local, regional, and national needs and concerns.

The BLM will use an interdisciplinary approach to develop the Plan Amendment in order to consider the variety of resource issues and concerns identified. Specialists with expertise in the following disciplines will be involved in the planning process: Rangeland management, minerals and geology, outdoor recreation, archaeology, paleontology, wildlife and fisheries, lands and realty, hydrology, soils, sociology and economics.

Authority: 40 CFR 1501.7 and 43 CFR 1610.2.

Ruth Welch,
BLM Colorado State Director.

[FR Doc. 2016-04805 Filed 3-3-16; 8:45 am]

BILLING CODE 4310-JB-P